DEPARTMENT OF AGRICULTURE

Submission for OMB Review; Comment Request

November 21, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 28, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Review of Child Nutrition Data & Analysis for Program Management.

OMB Control Number: 0584-NEW.

Summary of Collection: The Richard B. Russell National School Lunch Act of 1946 (42 U.S.C. 1751 et seq.), and the Child Nutrition Act of 1966 (42 U.S.C. 1771 et seq.) provide the legislative authority for the Food and Nutrition Service (FNS) to administer the National School Lunch Program (NSLP) and the School Breakfast Program (SBP). These programs provide Federal financial assistance and USDA Foods to public and non-profit private schools and residential childcare institutions to facilitate serving meals that meet nutritional standards. In accordance with Federal regulations, School Food Authorities (SFA) collect a range of required and reported basic data elements that the States and FNS use to monitor program reach, efficiency, and implementation, but they also collect additional data, which the SFAs need to manage their own operations. SFAs and States have migrated from paper-based processes to Management Information Systems (MIS) of varying levels of sophistication for the management of their data. FNS is conducting the Review of Child Nutrition Data and Analysis for Program Management Study to document the current status of the SFAs' and the State's NSLP/SBP MIS.

Need and Use of the Information: The data collected from this voluntary study will be used to evaluate the available data elements that State agencies and SFAs collect for the operation of the NSLP and SBP. FNS will use the results of this study to identify specific data elements that could improve and streamline reporting to FNS to improve program oversight. The information gathered from the study will also be used to provide technical assistance to State agencies and SFAs and to develop MIS best practices.

Description of Respondents: State, Local, or Tribal Government.

Number of Respondents: 4,382.

Frequency of Responses: Reporting: Other (once).

Total Burden Hours: 2,712.

Ruth Brown,
Departmental Information Collection Clearance Officer.

[FR Doc. 2016-28414 Filed 11-25-16; 8:45 am]

BILLING CODE 3410-30-P